FEDERAL COMMUNICATIONS COMMISSION

47 CFR Parts 54 and 64

[WC Docket No. 10-90, 14-58, 07-135 and CC Docket No. 01-92; Report No. 3091]

Petitions for Reconsideration of Action in Rulemaking Proceeding

AGENCY: Federal Communications Commission.

ACTION: Petitions for Reconsideration.

SUMMARY: Petitions for Reconsideration (Petitions) have been filed in the Commission's Rulemaking proceeding by James M. Gleason, on behalf of Clarity Telecom, LLC d/b/a Vast Broadband, Kevin Pyle, on behalf Hamilton County Telephone Co-op and Ronald T. Hinds, on behalf Grand River Mutual Telephone Corporation.

DATES: Oppositions to the Petition must be filed on or before June 29, 2018. Replies to an opposition must be filed on or before June 25, 2018.

ADDRESSES: Federal Communications Commission, 445 12th Street SW, Washington, DC 20554.

FOR FURTHER INFORMATION CONTACT: Alexander Minard, Wireline Competition Bureau, Telecommunications Access Policy Division, at: (202) 418-7400; email: Alexandrer.Minard@fcc.gov.

SUPPLEMENTARY INFORMATION: This is a summary of the Commission's document, Report No. 3091, released June 5, 2018. The full text of the Petitions is available for viewing and copying at the FCC Reference Information Center, 445 12th Street SW, Room CY-A257, Washington, DC 20554. It also may be accessed online via the Commission's Electronic Comment Filing System at: http://apps.fcc.gov/ecfs/. The Commission will not send a Congressional Review Act (CRA) submission to Congress or the Government Accountability Office pursuant to the CRA, 5 U.S.C. because no rules are being adopted by the Commission.

Subject: Connect America Fund, ETC Annual Reports and Certifications, Establishing Just and Reasonable Rates for Local Exchange Carriers, Developing a Unified Intercarrier Compensation, Report and Order and Third Order on Reconsideration, FCC 18-29, published at 83 FR 18951, May 1, 2018, in WC Docket Nos. 10-90, 14-58, 07-135 and CC Docket No. 01-92. This document is being published pursuant to 47 CFR 1.429(e). See also 47 CFR 1.4(b)(1) and 1.429(f), (g).

Number of Petitions Filed: 3.

Federal Communications Commission.
Katura Jackson,
Federal Register Liaison Officer, Office of the Secretary.

[FR Doc. 2018-12786 Filed 6-13-18; 8:45 am]

BILLING CODE 6712-01-P